DEPARTMENT OF THE INTERIOR

National Park Service

Lake Meredith National Recreation Area, Fritch, TX

AGENCY: National Park Service, Interior.

ACTION: Notice of Availability of a Plan of Operations, and an Environmental Assessment, for a 30-day public review at Lake Meredith National Recreation Area, Moore County, Texas.

SUMMARY: The National Park Service (NPS), in accordance with Section 9.52(b) of Title 36 of the Code of Federal Regulations has received from J.M. Huber Corporation a Plan of Operations and an Environmental Assessment for the re-entry of a natural gas well and the drilling of a lateral side track at Lake Meredith National Recreation Area.

DATES: The Plan of Operations, an Environmental Assessment is available for public review and comment for a period of 30 days from the publication date of this notice in the Federal Register.

ADDRESSES: The Plan of Operations and Environmental Assessment are available for public review and comment in the Office of the Superintendent, Lake Meredith National Recreation Area, 419 E. Broadway, Fritch, Texas. Copies are available, for a duplication fee, from the Superintendent, Lake Meredith National Recreation Area, P.O. Box 1460, Fritch, Texas 79306-1460.

FOR FURTHER INFORMATION CONTACT: Paul Eubank, Chief of Resource Management, Lake Meredith National Recreation Area and Alibates Flint Quarries National Monument, P.O. Box 1460, Fritch, Texas 79036, Telephone: 806-857-0309.

SUPPLEMENTARY INFORMATION: If you wish to comment, you may submit comments by mailing them to the post office address provided above, or you may hand-deliver comments to the park at the street address provided above. Our practice is to make comments, including names and home addresses of responders, available for public review during regular business hours. Individual respondents may request that we withhold their home address from the decision-making record, which we will honor to the extent allowable by law. There also may be circumstances in which we would withhold from the decision-making record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: July 12, 2005.
Roceythia Y. Pollard,
Acting Superintendent.

Editorial Note: This Document was received in the Office of the Federal Register on December 29, 2005.

[FR Doc. E5-8250 Filed 1-3-06; 8:45 am]

BILLING CODE 4312-KE-P